INTERNATIONAL TRADE COMMISSION

[Investigation No. 337-TA-445]

In the Matter of Certain Plasma Display Panels and Products Containing Same; Notice of Commission Decision not to Review an Initial Determination Amending the Complaint and Notice of Investigation to Add a Respondent

AGENCY: U.S. International Trade Commission.

ACTION: Notice.

SUMMARY: Notice is hereby given that the U.S. International Trade Commission has determined not to review the presiding administrative law judge's (“ALJ's”) initial determination (“ID”) amending the complaint and notice of investigation in the above-captioned investigation to add Fujitsu Hitachi Plasma Display Limited (“FHP”) as a respondent.

FOR FURTHER INFORMATION CONTACT: Tim Yaworski, Esq., Office of the General Counsel, U.S. International Trade Commission, 500 E Street, S.W., Washington, D.C. 20436, tel. (202) 205-3096. Hearing impaired persons are advised that information on this matter can be obtained by contacting the Commission's TDD terminal at (202) 205-1810. General information concerning the Commission may also be obtained by accessing the Commission's internet server (http://www.usitc.gov). The public record for this investigation may be viewed on the Commission's electronic docket (EDIS-ON-LINE) at http://www.dockets.usitc.gov/eol/public.

SUPPLEMENTARY INFORMATION: The Commission instituted this investigation on January 22, 2001, based on a complaint filed on behalf of the Board of Trustees of the University of Illinois and Competitive Technologies, Inc. The four respondents named in the complaint were Fujitsu Limited, Fujitsu General Limited, Fujitsu General America Corp., and Fujitsu Microelectronics, Inc.

On February 2, 2001, complainants moved to amend the complaint and notice of investigation to add FHP as a fifth respondent. The motion was supported by the Commission investigative attorney, but opposed by the original respondents. On February 21, 2001, the ALJ issued an ID (Order No. 5) granting the motion. No party petitioned for review of the ID.

The authority for the Commission's action is contained in section 337 of the Tariff Act of 1930, as amended (19 CFR § 1337), and in section 210.42 of the Commission's Rules of Practice and Procedure (19 CFR § 210.42). Copies of the ALJ's ID and all other nonconfidential documents filed in connection with this investigation are or will be available for inspection during official business hours (8:45 a.m. to 5:15 p.m.) in the Office of the Secretary, U.S. International Trade Commission, 500 E Street, S.W., Washington, DC 20436, telephone (202) 205-2000.

Dated: March 12, 2001.
By Order of the Commission.
Donna R. Koehnke,
Secretary.

[FR Doc. 01-6669 Filed 3-16-01; 8:45 am]

BILLING CODE 7020-02-P